SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: October 1, 2014-December 31, 2014.

ADDRESSES: Susquehanna River Basin Commission, 4423 North Front Street, Harrisburg, PA 17110-1788.

FOR FURTHER INFORMATION CONTACT: Jason E. Oyler, Regulatory Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22(f) for the time period specified above:

Approvals By Rule Issued Under 18 CFR 806.22(e)

1. The Lion Brewery, Inc., The Lion Brewery-Wilkes-Barre PA, ABR-201412007, Wilkes-Barre, Luzerne County, PA.; Approval Date: December 15, 2014.

Approvals By Rule Issued Under 18 CFR 806.22(f)

1. Seneca Resources Corporation, Pad ID: DCNR 595 Pad D, ABR-20090827.R1, Bloss Township, Tioga County, Pa.; Consumptive Use of Up to 4.000 mgd; Approval Date: October 7, 2014.

2. Chesapeake Appalachia, LLC, Pad ID: James Smith, ABR-20091020.R1, Terry Township, Bradford County, Pa.; Consumptive Use of Up to 7.500 mgd; Approval Date: October 7, 2014.

3. Chesapeake Appalachia, LLC, Pad ID: Grippo, ABR-20091212.R1, Terry Township, Bradford County, Pa.; Consumptive Use of Up to 7.500 mgd; Approval Date: October 7, 2014.

4. Chesapeake Appalachia, LLC, Pad ID: Duffield, ABR-20091213.R1, Tuscarora Township, Bradford County, Pa.; Consumptive Use of Up to 7.500 mgd; Approval Date: October 7, 2014.

5. Chesapeake Appalachia, LLC, Pad ID: Shirley, ABR-20100133.R1, Terry Township, Bradford County, Pa.; Consumptive Use of Up to 7.500 mgd; Approval Date: October 7, 2014.

6. Chesapeake Appalachia, LLC, Pad ID: Meas, ABR-20100134.R1, Albany Township, Bradford County, Pa.; Consumptive Use of Up to 7.500 mgd; Approval Date: October 7, 2014.

7. Chesapeake Appalachia, LLC, Pad ID: Mowry2, ABR-20100141.R1, Tuscarora Township, Bradford County, Pa.; Consumptive Use of Up to 7.500 mgd; Approval Date: October 7, 2014.

8. Chesapeake Appalachia, LLC, Pad ID: Harper, ABR-20100142.R1, Terry Township, Bradford County, Pa.; Consumptive Use of Up to 7.500 mgd; Approval Date: October 7, 2014.

9. Chesapeake Appalachia, LLC, Pad ID: Popivchak, ABR-20100147.R1, Burlington Township, Bradford County, Pa.; Consumptive Use of Up to 7.500 mgd; Approval Date: October 7, 2014.

10. Chesapeake Appalachia, LLC, Pad ID: Roundwood, ABR-201410001, Braintrim Township, Wyoming County, Pa.; Consumptive Use of Up to 7.500 mgd; Approval Date: October 10, 2014.

11. Southwestern Energy Production Company, Pad ID: RU-42-KROPFF-PAD, ABR-201410002, Jackson Township, Susquehanna County, Pa.; Consumptive Use of Up to 4.999 mgd; Approval Date: October 10, 2014.

12. Southwestern Energy Production Company, Pad ID: RU-71-BLUE BECK-PAD, ABR-201410003, Jackson Township, Susquehanna County, Pa.; Consumptive Use of Up to 4.999 mgd; Approval Date: October 10, 2014.

13. Chesapeake Appalachia, LLC, Pad ID: Saxe, ABR-201410004, Colley Township, Sullivan County, Pa.; Consumptive Use of Up to 7.500 mgd; Approval Date: October 10, 2014.

14. Chief Oil & Gas, LLC, Pad ID: SGL-12 B Drilling Pad, ABR-201410005, Overton Township, Bradford County, Pa.; Consumptive Use of Up to 2.500 mgd; Approval Date: October 10, 2014.

15. Southwestern Energy Production Company, Pad ID: RU-47-KARMAZIN-PAD, ABR-201410006, Jackson Township, Susquehanna County, Pa.; Consumptive Use of Up to 4.999 mgd; Approval Date: October 17, 2014.

16. Southwestern Energy Production Company, Pad ID: NR-27-COLEMAN EAST-PAD, ABR-201410007, Oakland Township, Susquehanna County, Pa.; Consumptive Use of Up to 4.999 mgd; Approval Date: October 17, 2014.

17. Inflection Energy LLC, Pad ID: Reitz Well Pad, ABR-201410008, Eldred Township, Lycoming County, Pa.; Consumptive Use of Up to 4.000 mgd; Approval Date: October 17, 2014.

18. Inflection Energy LLC, Pad ID: Winter Well Pad, ABR-201410009, Eldred Township, Lycoming County, Pa.; Consumptive Use of Up to 4.000 mgd; Approval Date: October 17, 2014.

19. Anadarko E&P Onshore LLC, Pad ID: Salt Run HC Pad B, ABR-201410010, Cascade Township, Lycoming County, Pa.; Consumptive Use of Up to 4.000 mgd; Approval Date: October 23, 2014.

20. Anadarko E&P Onshore LLC, Pad ID: COP Tract 284 Pad A, ABR-201410011, Grugan and Gallagher Townships, Clinton County, Pa.; Consumptive Use of Up to 4.000 mgd; Approval Date: October 23, 2014.

21. Southwestern Energy Production Company, Pad ID: RU-06 FLOHS-PAD, ABR-201410012, Great Bend Township, Susquehanna County, Pa.; Consumptive Use of Up to 4.999 mgd; Approval Date: October 23, 2014.

22. Stone Energy Corporation, Pad ID: Stang Well No. 1, ABR-20090941.R1, Rush Township, Susquehanna County, Pa.; Consumptive Use of Up to 1.000 mgd; Approval Date: October 29, 2014.

23. Stone Energy Corporation, Pad ID: Loomis Well No. 1, ABR-20090942.R1, Rush Township, Susquehanna County, Pa.; Consumptive Use of Up to 1.000 mgd; Approval Date: October 29, 2014.

24. Chesapeake Appalachia, LLC, Pad ID: Harry, ABR-20091017.R1, West Burlington Township, Bradford County, Pa.; Consumptive Use of Up to 7.500 mgd; Approval Date: October 29, 2014.

25. Chesapeake Appalachia, LLC, Pad ID: Stoorza, ABR-20091208.R1, Terry Township, Bradford County, Pa.; Consumptive Use of Up to 7.500 mgd; Approval Date: October 29, 2014.

26. Chesapeake Appalachia, LLC, Pad ID: Readinger, ABR-20091210.R1, West Burlington Township, Bradford County, Pa.; Consumptive Use of Up to 7.500 mgd; Approval Date: October 29, 2014.

27. Chesapeake Appalachia, LLC, Pad ID: Miller, ABR-20091211.R1, Towanda Township, Bradford County, Pa.; Consumptive Use of Up to 7.500 mgd; Approval Date: October 29, 2014.

28. EOG Resources, Inc., Pad ID: GUINAN 1V, ABR-20091116.R1, Springfield Township, Bradford County, Pa.; Consumptive Use of Up to 0.999 mgd; Approval Date: October 29, 2014.

29. Chesapeake Appalachia, LLC, Pad ID: Solowiej, ABR-20100148.R1, Wyalusing Township, Bradford County, Pa.; Consumptive Use of Up to 7.500 mgd; Approval Date: October 31, 2014.

30. Talisman Energy USA Inc., Pad ID: Ferguson 01 023, ABR-20100453.R1, Granville Township, Bradford County, Pa.; Consumptive Use of Up to 6.000 mgd; Approval Date: October 31, 2014.

31. Cabot Oil & Gas Corporation, Pad ID: KelleyP P1, ABR-20100310.R1, Dimock Township, Susquehanna County, Pa.; Consumptive Use of Up to 3.575 mgd; Approval Date: November 7, 2014.

32. Cabot Oil & Gas Corporation, Pad ID: HinkleyR P1, ABR-20100322.R1, Springville Township, Susquehanna County, Pa.; Consumptive Use of Up to 3.575 mgd; Approval Date: November 7, 2014.

33. Cabot Oil & Gas Corporation, Pad ID: BlaisureJo P1, ABR-20100325.R1, Jessup Township, Susquehanna County, Pa.; Consumptive Use of Up to 3.575 mgd; Approval Date: November 7, 2014.

34. Cabot Oil & Gas Corporation, Pad ID: RussoB P2, ABR-20100326.R1, Springville Township, Susquehanna County, Pa.; Consumptive Use of Up to 3.575 mgd; Approval Date: November 7, 2014.

35. Cabot Oil & Gas Corporation, Pad ID: WarnerA P1, ABR-20100331.R1, Dimock Township, Susquehanna County, Pa.; Consumptive Use of Up to 3.575 mgd; Approval Date: November 7, 2014.

36. Cabot Oil & Gas Corporation, Pad ID: GrosvenorD P1, ABR-20100333.R1, Dimock Township, Susquehanna County, Pa.; Consumptive Use of Up to 3.575 mgd; Approval Date: November 7, 2014.

37. Cabot Oil & Gas Corporation, Pad ID: Depaola P1, ABR-20100343.R1, Dimock Township, Susquehanna County, Pa.; Consumptive Use of Up to 3.575 mgd; Approval Date: November 7, 2014.

38. Chesapeake Appalachia, LLC, Pad ID: Lionetti, ABR-20100130.R1, Tuscarora Township, Bradford County, Pa.; Consumptive Use of Up to 7.500 mgd; Approval Date: November 7, 2014.

39. Chesapeake Appalachia, LLC, Pad ID: Storms, ABR-20100131.R1, Tuscarora Township, Bradford County, Pa.; Consumptive Use of Up to 7.500 mgd; Approval Date: November 7, 2014.

40. Chesapeake Appalachia, LLC, Pad ID: Welles 3, ABR-20100132.R1, Terry Township, Bradford County, Pa.; Consumptive Use of Up to 7.500 mgd; Approval Date: November 7, 2014.

41. Chesapeake Appalachia, LLC, Pad ID: Welles 4, ABR-20100144.R1, Terry Township, Bradford County, Pa.; Consumptive Use of Up to 7.500 mgd; Approval Date: November 7, 2014.

42. Chesapeake Appalachia, LLC, Pad ID: Horst, ABR-20100150.R1, Smithfield Township, Bradford County, Pa.; Consumptive Use of Up to 7.500 mgd; Approval Date: November 7, 2014.

43. Chesapeake Appalachia, LLC, Pad ID: Stevens, ABR-20100151.R1, Standing Stone Township, Bradford County, Pa.; Consumptive Use of Up to 7.500 mgd; Approval Date: November 7, 2014.

44. Range Resources—Appalachia, LLC, Pad ID: Arrowhead Hunting Club Unit, ABR-20100534.R1, Gallagher Township, Clinton County, Pa.; Consumptive Use of Up to 5.000 mgd; Approval Date: November 7, 2014.

45. Seneca Resources Corporation, Pad ID: DCNR Tract 100 5H, ABR-20100439.R1, Lewis Township, Lycoming County, Pa.; Consumptive Use of Up to 4.000 mgd; Approval Date: November 7, 2014.

46. Talisman Energy USA Inc., Pad ID: Ziegler 03 001, ABR-20100424.R1, Columbia Township, Bradford County, Pa.; Consumptive Use of Up to 6.000 mgd; Approval Date: November 7, 2014.

47. Talisman Energy USA Inc., Pad ID: Crank 03 067, ABR-20100430.R1, Columbia Township, Bradford County, Pa.; Consumptive Use of Up to 6.000 mgd; Approval Date: November 7, 2014.

48. Talisman Energy USA Inc., Pad ID: Storch 03 035, ABR-20100445.R1, Wells Township, Bradford County, Pa.; Consumptive Use of Up to 6.000 mgd; Approval Date: November 7, 2014.

49. Chesapeake Appalachia, LLC, Pad ID: Claude, ABR-20100319.R1, Auburn Township, Susquehanna County, Pa.; Consumptive Use of Up to 7.500 mgd; Approval Date: November 7, 2014.

50. Chesapeake Appalachia, LLC, Pad ID: Marbaker, ABR-20100321.R1, Auburn Township, Susquehanna County, Pa.; Consumptive Use of Up to 7.500 mgd; Approval Date: November 7, 2014.

51. Chesapeake Appalachia, LLC, Pad ID: Masso, ABR-20100216.R1, Auburn Township, Susquehanna County, Pa.; Consumptive Use of Up to 7.500 mgd; Approval Date: November 7, 2014.

52. Chief Oil & Gas, LLC, Pad ID: Ransom Drilling Pad #1, ABR-20100338.R1, Lenox Township, Susquehanna County, Pa.; Consumptive Use of Up to 2.000 mgd; Approval Date: November 7, 2014.

53. Chief Oil & Gas, LLC, Pad ID: Oliver Drilling Pad #1, ABR-20100425.R1, Springville Township, Susquehanna County, Pa.; Consumptive Use of Up to 2.000 mgd; Approval Date: November 7, 2014.

54. Chief Oil & Gas, LLC, Pad ID: Kerr Drilling Pad #1, ABR-20100506.R1, Lathrop Township, Susquehanna County, Pa.; Consumptive Use of Up to 2.000 mgd; Approval Date: November 7, 2014.

55. Seneca Resources Corporation, Pad ID: DCNR Tract 007 1H, ABR-201008045.R1, Shippen Township, Tioga County, Pa.; Consumptive Use of Up to 4.000 mgd; Approval Date: November 7, 2014.

56. SWEPI LP, Pad ID: Pazzaglia 507, ABR-20091003.R1, Rutland Township, Tioga County, Pa.; Consumptive Use of Up to 4.000 mgd; Approval Date: November 7, 2014.

57. SWEPI LP, Pad ID: Soderberg 501, ABR-20091004.R1, Sullivan Township, Tioga County, Pa.; Consumptive Use of Up to 4.000 mgd; Approval Date: November 7, 2014.

58. SWEPI LP, Pad ID: Fitch 115-1H, ABR-20091005.R1, Union Township, Tioga County, Pa.; Consumptive Use of Up to 4.000 mgd; Approval Date: November 7, 2014.

59. SWEPI LP, Pad ID: Palmer 112, ABR-20091006.R1, Canton Township, Bradford County, Pa.; Consumptive Use of Up to 4.000 mgd; Approval Date: November 7, 2014.

60. SWEPI LP, Pad ID: Allen 264, ABR-20091007.R1, Jackson Township, Tioga County, Pa.; Consumptive Use of Up to 4.000 mgd; Approval Date: November 7, 2014.

61. SWEPI LP, Pad ID: Howe 257, ABR-20091008.R1, Jackson Township, Tioga County, Pa.; Consumptive Use of Up to 4.000 mgd; Approval Date: November 7, 2014.

62. SWEPI LP, Pad ID: Ostrander 412, ABR-20091009.R1, Jackson Township, Tioga County, Pa.; Consumptive Use of Up to 4.000 mgd; Approval Date: November 7, 2014.

63. SWEPI LP, Pad ID: Bryan 406, ABR-20091011.R1, Jackson Township, Tioga County, Pa.; Consumptive Use of Up to 4.000 mgd; Approval Date: November 7, 2014.

64. SWEPI LP, Pad ID: Cooper 400, ABR-20091013.R1, Tioga Township, Tioga County, Pa.; Consumptive Use of Up to 4.000 mgd; Approval Date: November 7, 2014.

65. SWEPI LP, Pad ID: Burleigh 508, ABR-20091015.R1, Rutland Township, Tioga County, Pa.; Consumptive Use of Up to 4.000 mgd; Approval Date: November 7, 2014.

66. SWEPI LP, Pad ID: Busia 457, ABR-20091016.R1, Jackson Township, Tioga County, Pa.; Consumptive Use of Up to 4.000 mgd; Approval Date: November 7, 2014.

67. SWEPI LP, Pad ID: Phillips 504, ABR-20091018.R1, Rutland Township, Tioga County, Pa.; Consumptive Use of Up to 4.000 mgd; Approval Date: November 7, 2014.

68. SWEPI LP, Pad ID: Hungerford 458, ABR-20091019.R1, Jackson Township, Tioga County, Pa.; Consumptive Use of Up to 4.000 mgd; Approval Date: November 7, 2014.

69. SWEPI LP, Pad ID: Schildt 259, ABR-20091027.R1, Jackson Township, Tioga County, Pa.; Consumptive Use of Up to 4.000 mgd; Approval Date: November 7, 2014.

70. SWEPI LP, Pad ID: Stehmer 420, ABR-20091101.R1, Delmar Township, Tioga County, Pa.; Consumptive Use of Up to 4.000 mgd; Approval Date: November 7, 2014.

71. SWEPI LP, Pad ID: Johnson 435, ABR-20091102.R1, Shippen Township, Tioga County, Pa.; Consumptive Use of Up to 4.000 mgd; Approval Date: November 7, 2014.

72. SWEPI LP, Pad ID: Brown 425, ABR-20091106.R1, Delmar Township, Tioga County, Pa.; Consumptive Use of Up to 4.000 mgd; Approval Date: November 7, 2014.

73. SWEPI LP, Pad ID: Barrett 410, ABR-20091107.R1, Jackson Township, Tioga County, Pa.; Consumptive Use of Up to 4.000 mgd; Approval Date: November 7, 2014.

74. SWEPI LP, Pad ID: Starks 461, ABR-20091108.R1, Richmond Township, Tioga County, Pa.; Consumptive Use of Up to 4.000 mgd; Approval Date: November 7, 2014.

75. SWEPI LP, Pad ID: Yungwirth 307, ABR-20091110.R1, Charleston Township, Tioga County, Pa.; Consumptive Use of Up to 4.000 mgd; Approval Date: November 7, 2014.

76. SWEPI LP, Pad ID: West 299, ABR-20091111.R1, Richmond Township, Tioga County, Pa.; Consumptive Use of Up to 4.000 mgd; Approval Date: November 7, 2014.

77. SWEPI LP, Pad ID: Button 402, ABR-20091113.R1, Jackson Township, Tioga County, Pa.; Consumptive Use of Up to 4.000 mgd; Approval Date: November 7, 2014.

78. SWEPI LP, Pad ID: Chapman 237, ABR-20091206.R1, Sullivan Township, Tioga County, Pa.; Consumptive Use of Up to 4.000 mgd; Approval Date: November 7, 2014.

79. SWEPI LP, Pad ID: Houck 433, ABR-20091207.R1, Shippen Township, Tioga County, Pa.; Consumptive Use of Up to 4.000 mgd; Approval Date: November 7, 2014.

80. SWEPI LP, Pad ID: Jenkins 523, ABR-20091215.R1, Rutland Township, Tioga County, Pa.; Consumptive Use of Up to 4.000 mgd; Approval Date: November 7, 2014.

81. SWEPI LP, Pad ID: Pannebaker 515, ABR-20091216.R1, Rutland Township, Tioga County, Pa.; Consumptive Use of Up to 4.000 mgd; Approval Date: November 7, 2014.

82. SWEPI LP, Pad ID: Starks 460, ABR-20091217.R1, Richmond Township, Tioga County, Pa.; Consumptive Use of Up to 4.000 mgd; Approval Date: November 7, 2014.

83. SWEPI LP, Pad ID: Oldroyd 509, ABR-20091218.R1, Rutland Township, Tioga County, Pa.; Consumptive Use of Up to 4.000 mgd; Approval Date: November 7, 2014.

84. Chief Oil & Gas LLC, Pad ID: S.A. Wilson Drilling Pad, ABR-201411001, Overton Township, Bradford County, Pa.; Consumptive Use of Up to 2.500 mgd; Approval Date: November 12, 2014.

85. Southwestern Energy Production Company, Pad ID: NR-04-DIAZ PAD, ABR-201411002, New Milford Township, Susquehanna County, Pa.; Consumptive Use of Up to 4.999 mgd; Approval Date: November 12, 2014.

86. Chesapeake Appalachia, LLC, Pad ID: Welles 5, ABR-20100217.R1, Terry Township, Bradford County, Pa.; Consumptive Use of Up to 7.500 mgd; Approval Date: November 12, 2014.

87. Chesapeake Appalachia, LLC, Pad ID: Acla, ABR-20100324.R1, Terry Township, Bradford County, Pa.; Consumptive Use of Up to 7.500 mgd; Approval Date: November 12, 2014.

88. Chesapeake Appalachia, LLC, Pad ID: Plymouth, ABR-20100341.R1, Terry Township, Bradford County, Pa.; Consumptive Use of Up to 7.500 mgd; Approval Date: November 12, 2014.

89. Chief Oil & Gas LLC, Pad ID: Severcool Drilling Pad #1, ABR-20100547.R1, Forkston Township, Wyoming County, Pa.; Consumptive Use of Up to 2.000 mgd; Approval Date: November 12, 2014.

90. Chesapeake Appalachia, LLC, Pad ID: Updike, ABR-20100305.R1, West Burlington Township, Bradford County, Pa.; Consumptive Use of Up to 7.500 mgd; Approval Date: November 18, 2014.

91. Chesapeake Appalachia, LLC, Pad ID: Kalinowski, ABR-20100332.R1, West Burlington Township, Bradford County, Pa.; Consumptive Use of Up to 7.500 mgd; Approval Date: November 18, 2014.

92. Chesapeake Appalachia, LLC, Pad ID: Rose, ABR-20100327.R1, Towanda Township, Bradford County, Pa.; Consumptive Use of Up to 7.500mgd; Approval Date: November 19, 2014.

93. Chesapeake Appalachia, LLC, Pad ID: Leaman, ABR-20100342.R1, West Burlington Township, Bradford County, Pa.; Consumptive Use of Up to 7.500 mgd; Approval Date: November 19, 2014.

94. American Energy—Marcellus, LLC, Pad ID: Sooner Magic 1, ABR-201412001, Union Township, Huntingdon County, Pa.; Consumptive Use of Up to 0.100 mgd; Approval Date: December 5, 2014.

95. Cabot Oil & Gas Corporation, Pad ID: RoseC P1, ABR-20100407.R1, Dimock Township, Susquehanna County, Pa.; Consumptive Use of Up to 3.575 mgd; Approval Date: December 5, 2014.

96. Cabot Oil & Gas Corporation, Pad ID: BlaisureJe P1, ABR-20100431.R1, Dimock Township, Susquehanna County, Pa.; Consumptive Use of Up to 3.575 mgd; Approval Date: December 5, 2014.

97. Cabot Oil & Gas Corporation, Pad ID: Rayias P1, ABR-20100432.R1, Dimock Township, Susquehanna County, Pa.; Consumptive Use of Up to 3.575 mgd; Approval Date: December 5, 2014.

98. Chesapeake Appalachia, LLC, Pad ID: Dan Ellis, ABR-20100210.R1, Monroe Township, Bradford County, Pa.; Consumptive Use of Up to 7.500 mgd; Approval Date: December 5, 2014.

99. Chesapeake Appalachia, LLC, Pad ID: Engelke, ABR-20100323.R1, Troy Township, Bradford County, Pa.; Consumptive Use of Up to 7.500 mgd; Approval Date: December 5, 2014.

100. Chesapeake Appalachia, LLC, Pad ID: Elevation, ABR-20100339.R1, North Towanda Township, Bradford County, Pa.; Consumptive Use of Up to 7.500 mgd; Approval Date: December 5, 2014.

101. Chesapeake Appalachia, LLC, Pad ID: Schoonover, ABR-20100345.R1, Wysox Township, Bradford County, Pa.; Consumptive Use of Up to 7.500 mgd; Approval Date: December 5, 2014.

102. Chesapeake Appalachia, LLC, Pad ID: Cappucci, ABR-20100312.R1, Mehoopany Township, Wyoming County, Pa.; Consumptive Use of Up to 7.500 mgd; Approval Date: December 8, 2014.

103. Chesapeake Appalachia, LLC, Pad ID: Rosalie, ABR-20100348.R1, Windham Township, Wyoming County, Pa.; Consumptive Use of Up to 7.500 mgd; Approval Date: December 8, 2014.

104. SWEPI LP, Pad ID: Butler 127, ABR-20100114.R1, Delmar Township, Tioga County, Pa.; Consumptive Use of Up to 4.000 mgd; Approval Date: December 8, 2014.

105. Cabot Oil & Gas Corporation, Pad ID: ReynenJ P1, ABR-201412002, Harford Township, Susquehanna County, Pa.; Consumptive Use of Up to 4.250 mgd; Approval Date: December 8, 2014.

106. Cabot Oil & Gas Corporation, Pad ID: GrooverS P1, ABR-201412003, Bridgewater Township, Susquehanna County, Pa.; Consumptive Use of Up to 4.250 mgd; Approval Date: December 8, 2014.

107. EXCO Resources (PA), LLC, Pad ID: Edkin Hill Unit, ABR-201412004, Shrewsbury Township, Sullivan County, Pa.; Consumptive Use of Up to 8.000 mgd; Approval Date: December 8, 2014.

108. SWEPI LP, Pad ID: Charles Stock 144, ABR-20100120.R1, Delmar Township, Tioga County, Pa.; Consumptive Use of Up to 4.000 mgd; Approval Date: December 9, 2014.

109. SWEPI LP, Pad ID: Coolidge 464, ABR-20100139.R1, Delmar Township, Tioga County, Pa.; Consumptive Use of Up to 4.000 mgd; Approval Date: December 9, 2014.

110. SWEPI LP, Pad ID: Hackman 143, ABR-20100118.R1, Delmar Township, Tioga County, Pa.; Consumptive Use of Up to 4.000 mgd; Approval Date: December 11, 2014.

111. SWEPI LP, Pad ID: Baker 128, ABR-20100119.R1, Delmar Township, Tioga County, Pa.; Consumptive Use of Up to 4.000 mgd; Approval Date: December 11, 2014.

112. SWEPI LP, Pad ID: Castle 113D, ABR-20100123.R1, Canton Township, Bradford County, Pa.; Consumptive Use of Up to 4.000 mgd; Approval Date: December 11, 2014.

113. Cabot Oil & Gas Corporation, Pad ID: WrightW P1, ABR-201412005, Bridgewater Township, Susquehanna County, Pa.; Consumptive Use of Up to 4.250 mgd; Approval Date: December 11, 2014.

114. Southwestern Energy Production Company, Pad ID: NR-16 HALEY PAD, ABR-201412006, Great Bend Township, Susquehanna County, Pa.; Consumptive Use of Up to 4.999 mgd; Approval Date: December 11, 2014.

115. SWEPI LP, Pad ID: Willard 419-1H, ABR-20100105.R1, Delmar Township, Tioga County, Pa.; Consumptive Use of Up to 4.000 mgd; Approval Date: December 16, 2014.

116. SWEPI LP, Pad ID: Kennedy 137, ABR-20100121.R1, Delmar Township, Tioga County, Pa.; Consumptive Use of Up to 4.000 mgd; Approval Date: December 16, 2014.

117. SWEPI LP, Pad ID: Stevens 142, ABR-20100122.R1, Delmar Township, Tioga County, Pa.; Consumptive Use of Up to 4.000 mgd; Approval Date: December 16, 2014.

118. SWEPI LP, Pad ID: Miller 116D, ABR-20100124.R1, Union Township, Tioga County, Pa.; Consumptive Use of Up to 4.000 mgd; Approval Date: December 16, 2014.

119. SWEPI LP, Pad ID: Sterling 525, ABR-20100140.R1, Rutland Township, Tioga County, Pa.; Consumptive Use of Up to 4.000 mgd; Approval Date: December 16, 2014.

120. SWEPI LP, Pad ID: McClure 527, ABR-20100143.R1, Rutland Township, Tioga County, Pa.; Consumptive Use of Up to 4.000 mgd; Approval Date: December 16, 2014.

121. Cabot Oil & Gas Corporation, Pad ID: StellitanoA P1, ABR-201412008, Gibson Township, Susquehanna County, Pa.; Consumptive Use of Up to 4.250 mgd; Approval Date: December 16, 2014.

122. SWEPI LP, Pad ID: York 480-5H, ABR-20100106.R1, Sullivan Township, Tioga County, Pa.; Consumptive Use of Up to 4.000 mgd; Approval Date: December 19, 2014.

123. SWEPI LP, Pad ID: Wood 513, ABR-20100107.R1, Rutland Township, Tioga County, Pa.; Consumptive Use of Up to 4.000 mgd; Approval Date: December 19, 2014.

124. Southwestern Energy Production Company, Pad ID: NR-19 WALKER-DIEHL PAD, ABR-201412009, Oakland Township, Susquehanna County, Pa.; Consumptive Use of Up to 4.999 mgd; Approval Date: December 22, 2014.

125. Inflection Energy LLC, Pad ID: Hannan Well Site, ABR-201412010, Hepburn Township, Lycoming County, Pa.; Consumptive Use of Up to 4.000 mgd; Approval Date: December 22, 2014.

126. Cabot Oil & Gas Corporation, Pad ID: CarsonJ P1, ABR-20100520.R1, Springville Township, Susquehanna County, Pa.; Consumptive Use of Up to 3.575 mgd; Approval Date: December 23, 2014.

127. Warren Marcellus, LLC, Pad ID: Procter & Gamble Mehoopany Plant 4V, ABR-20100125.R1, Washington Township, Wyoming County, Pa.; Consumptive Use of Up to 5.000 mgd; Approval Date: December 23, 2014.

128. Warren Marcellus, LLC, Pad ID: Procter & Gamble Mehoopany Plant 3V, ABR-20100126.R1, Washington Township, Wyoming County, Pa.; Consumptive Use of Up to 5.000 mgd; Approval Date: December 23, 2014.

129. Warren Marcellus, LLC, Pad ID: Procter & Gamble Mehoopany Plant 5V, ABR-20100127.R1, Washington Township, Wyoming County, Pa.; Consumptive Use of Up to 5.000 mgd; Approval Date: December 23, 2014.

130. Anadarko E&P Onshore LLC, Pad ID: Texas Blockhouse F&G B, ABR-20100207.R1, Pine Township, Lycoming County, Pa.; Consumptive Use of Up to 3.000 mgd; Approval Date: December 31, 2014.

131. Cabot Oil & Gas Corporation, Pad ID: WarrinerR P2, ABR-20100518.R1, Dimock Township, Susquehanna County, Pa.; Consumptive Use of Up to 3.575 mgd; Approval Date: December 31, 2014.

132. Cabot Oil & Gas Corporation, Pad ID: HawleyW P1, ABR-20100521.R1, Dimock Township, Susquehanna County, Pa.; Consumptive Use of Up to 3.575 mgd; Approval Date: December 31, 2014.

133. Cabot Oil & Gas Corporation, Pad ID: RozellC P1, ABR-20100542.R1, Jessup Township, Susquehanna County, Pa.; Consumptive Use of Up to 3.575 mgd; Approval Date: December 31, 2014.

134. Cabot Oil & Gas Corporation, Pad ID: PettyJ P1, ABR-20100550.R1, Dimock Township, Susquehanna County, Pa.; Consumptive Use of Up to 3.575 mgd; Approval Date: December 31, 2014.

135. Chesapeake Appalachia, LLC, Pad ID: Otis, ABR-20100318.R1, Herrick Township, Bradford County, Pa.; Consumptive Use of Up to 7.500 mgd; Approval Date: December 31, 2014.

136. Chesapeake Appalachia, LLC, Pad ID: Sivers, ABR-20100320.R1, Tuscarora Township, Bradford County, Pa.; Consumptive Use of Up to 7.500 mgd; Approval Date: December 31, 2014.

137. Chesapeake Appalachia, LLC, Pad ID: Hoffman, ABR-20100328.R1, Towanda Township, Bradford County, Pa.; Consumptive Use of Up to 7.500 mgd; Approval Date: December 31, 2014.

138. Chesapeake Appalachia, LLC, Pad ID: Walt, ABR-20100329.R1, Albany Township, Bradford County, Pa.; Consumptive Use of Up to 7.500 mgd; Approval Date: December 31, 2014.

139. Chesapeake Appalachia, LLC, Pad ID: Lundy, ABR-20100340.R1, Standing Stone Township, Bradford County, Pa.; Consumptive Use of Up to 7.500 mgd; Approval Date: December 31, 2014.

Authority: Pub. L. 91-575, 84 Stat. 1509 et seq., 18 CFR parts 806, 807, and 808.

Dated: February 4, 2015.
Stephanie L. Richardson,
Secretary to the Commission.

[FR Doc. 2015-02924 Filed 2-11-15; 8:45 am]

BILLING CODE 7040-01-P